DEPARTMENT OF STATE

[Public Notice-6492]

Shipping Coordinating Committee; Notice of Meeting

The Shipping Coordinating Committee (SHC) will conduct an open meeting at 9:30 a.m. on Thursday, February 12, 2009, in Room 6103 of the United States Coast Guard Headquarters building, 2100 Second Street, SW., Washington, DC 20593. The primary purpose of the meeting is to prepare for the 52nd session of the Sub-Committee on Ship Design and Equipment (DE 52) of the International Maritime Organization (IMO) to be held March 16-20, 2009 at the IMO's London Headquarters. The primary matters to be considered at DE 52 include:

—Amendments to resolution A.744(18) regarding longitudinal strength of tankers;

—Measures to prevent accidents with lifeboats;

—Compatibility with life-saving appliances;

—Test standards for extended service intervals of inflatable life rafts;

—Amendments to the Guidelines for ships operating in Arctic ice-covered waters;

—Revision of resolution A.760(18) regarding symbols related to life-saving appliances and arrangements;

—Guidelines for uniform operating limitations of high-speed craft;

—Consideration of International Association of Classification Societies (IACS) unified interpretations;

—Cargo oil tank coating and corrosion protection;

—Guidelines for maintenance and repair of protective coatings;

—Performance standards for recovery systems;

—Guidance to ensure consistent policy for determining the need for watertight doors to remain open during navigation;

—Revision of the Code on Alarms and Indicators (resolution A.830(19)); and

—Amendments to the Code for the Construction and Equipment of Mobile Offshore Drilling Units (MODU Code).

Printed copies of documents associated with DE 52 will be available at this meeting of the SHC. To request further copies of documents please write to the address provided below. Members of the public may attend this meeting up to the seating capacity of the room. Interested persons may seek additional information by writing to Mr. Wayne Lundy, Commandant (CG-5213), U.S. Coast Guard Headquarters, 2100 Second Street, SW., Room 1300, Washington, DC 20593-0001 or by calling (202) 372-1379.

Dated: January 22, 2009.
Mark Skolnicki,
Executive Secretary, Shipping Coordinating Committee, Department of State.

[FR Doc. E9-1938 Filed 1-28-09; 8:45 am]

BILLING CODE 4710-07-P